DEPARTMENT OF COMMERCE

International Trade Administration

[A-570-881]

Notice of Amended Final Determination of Sales at Less Than Fair Value: Certain Malleable Iron Pipe Fittings From the People's Republic of China

AGENCY: Import Administration, International Trade Administration, Department of Commerce.

ACTION: Notice of Amended Final Determination of Sales at Less Than Fair Value.

EFFECTIVE DATE: November 24, 2003.

FOR FURTHER INFORMATION CONTACT: Helen Kramer or Ann Barnett-Dahl, Import Administration, International Trade Administration, U.S. Department of Commerce, 14th Street and Constitution Avenue NW, Washington, DC 20230; telephone: (202) 482-0405, or 482-3833, respectively.

SUPPLEMENTARY INFORMATION:

Scope of Investigation

For purposes of this investigation, the products covered are certain malleable iron pipe fittings, cast, other than grooved fittings, from the People's Republic of China. The merchandise is classified under item numbers 7307.19.90.30, 7307.19.90.60 and 7307.19.90.80 of the Harmonized Tariff Schedule (HTSUS). Excluded from the scope of this investigation are metal compression couplings, which are imported under HTSUS number 7307.19.90.80. A metal compression coupling consists of a coupling body, two gaskets, and two compression nuts. These products range in diameter from 1/2 inch to 2 inches and are carried only in galvanized finish. Although HTSUS subheadings are provided for convenience and Bureau of Customs and Border Protection (CBP) purposes, the Department's written description of the scope of this proceeding is dispositive.

Background

On October 20, 2003, the Department of Commerce (“the Department”) determined that certain malleable iron pipe fittings from the People's Republic of China (“MPF”) are being, or are likely to be, sold in the United States at less than fair value, as provided in section 735(a) of the Act. See Final Determination of Sales at Less Than Fair Value: Certain Malleable Iron Pipe Fittings from the People's Republic of China, 68 FR 61395 (October 28, 2003). The Department released disclosure materials to respondents on October 22, 2003, and to the petitioners on October 23, 2003.

On October 27, 2003, we received ministerial error allegations, timely filed pursuant to 19 CFR 351.224(c)(2), from mandatory respondents Jinan Meide Casting Co., Ltd. (“JMC”) and Beijing Sai Lin Ke Hardware Co., Ltd. (“SLK”). On October 28, 2003, the petitioners also submitted a timely letter to the Department alleging ministerial errors . On October 30, 2003, the petitioners submitted a response to SLK's comments.

Section 351.224(f) of the Department's regulations defines a ministerial error as an error in addition, subtraction, or other arithmetic function, clerical error resulting from inaccurate copying, duplication, or the like, and any other similar type of unintentional error which the Secretary considers ministerial.

Ministerial Error Allegations From the Mandatory Respondents

Comment 1: Surrogate Values for Adhesive Tape and Steel Shavings

JMC alleges that the Department utilized the incorrect values for the adhesive tape and steel shavings factors of production. JMC notes that the Department's Factors Valuation Memorandum calculates a surrogate value of $4.9585 per kg for adhesive tape, excluding aberrantly high-priced imports from Sweden, and a surrogate value of $0.1300 per kg for steel shavings, excluding aberrantly high-priced imports from the United Kingdom However, JMC notes that the Department used values of $4.9587 and $0.1329, respectively, in the calculation of the final margin and that the Department apparently failed to exclude the aberrant imports from the Excel spreadsheets. JMC requests that the Department correct these clerical errors.

The petitioners did not comment on this issue.

Department's Position:

We agree with JMC that we made clerical errors with respect to the surrogate values of adhesive tape and steel shavings as a result of inaccurate copying. Accordingly, we have corrected the Excel worksheets for adhesive tape and steel shavings used to calculate surrogate values for JMC's factors of production (FOP). In addition, we corrected the surrogate value for adhesive tape in the worksheet used for SLK's packing, and the surrogate value for steel shavings in the worksheet used for one of SLK's suppliers.

Comment 2: Indirect Labor Calculation for an SLK Supplier

SLK argues that the Department incorrectly recalculated indirect labor hours in the galvanizing workshop of one of its suppliers by allocating them to the total weight of galvanized fittings produced in the galvanizing workshop. SLK states that both black and galvanized fittings are cleaned in the galvanizing workshop, and argues that the indirect labor hours should be divided by the weight of both types of fittings.

The petitioners argue that the selection of the basis over which to allocate indirect labor is not ministerial, but instead methodological, and urge the Department to deny SLK's request to revise the calculation.

Department's Position:

We agree with SLK that the omission of the weight of the black fittings cleaned in the galvanizing workshop was a ministerial error. The error resulted from SLK's formatting of a worksheet, in which only the galvanized fittings are shown under the heading “Galvanizing and Cleaning.” As it was not an intentional choice of methodology, but resulted from an error in copying, we have made the requested correction. For a more detailed discussion, see the memorandum to Richard O. Weible from Helen M. Kramer entitled “Allegations of Ministerial Errors; Final Determination in the Antidumping Duty Investigation of Certain Malleable Iron Pipe Fittings from the People's Republic of China (A-570-881),” dated November xx, 2003 (“Ministerial Errors Memorandum”).

Comment 3: Application of Surrogate Freight in Facts Available Scrap Input Valuation

SLK claims that the Department applied a freight factor to recycled scrap in the final determination, contrary to its stated position, because it applied the surrogate value for freight in its facts available steel scrap calculation. SLK argues that the Department applied a factor of 56.83% for recycled scrap as facts available, and applied the surrogate value for freight equally to scrap and recycled scrap.

The petitioners rebut SLK, arguing that the alleged error involves a methodological decision regarding the application of facts available, and is not a ministerial error. The petitioners also argue that SLK's claim is not factually correct, because the Department applied the 56.83 percent facts available factor to purchased scrap and pig iron, and not to recycled inputs, as noted in the final determination analysis memorandum for SLK. See Memorandum to the File from Helen Kramer, Case Analyst, entitled “Antidumping Duty Investigation of Certain Malleable Iron Pipe Fittings from the People's Republic of China; Final Determination Analysis for LDR/SLK,” (October 20, 2003) at 3. The petitioners conclude that the Department therefore properly applied the freight factor to the full cost of metallic inputs, which includes the cost of freight.

Department's Position:

We agree with the petitioners that the Department's methodology of applying facts available is not a ministerial error within the meaning of 19 CFR 351.224(f) because the Department's decision to apply a surrogate freight value was intentional. We also agree with the petitioners that SLK's claim is not factually correct. We used a combination of petitioners' and two respondents' data to calculate the percentage by which purchased steel scrap and pig iron inputs should be increased to account for all metallic inputs. This calculation did not include freight. Inasmuch as we are applying facts available to purchased scrap steel which incurs freight expenses, and we did not use the respondents' data on recycled scrap, we do not agree with SLK that we applied surrogate freight to recycled scrap contrary to our stated intention.

Ministerial Error Allegations from the Petitioners

Comments 1 and 2: Deductions from U.S. Price

The petitioners argue that the Department made ministerial errors in the calculation of SLK's net U.S. price by not deducting the variable “OTHDIS1” added after the preliminary determination for an additional discount, and the variable “INLFPWU,” representing the cost of trucking the subject merchandise from the Chicago rail station to LDR's warehouse for certain sales.

SLK did not comment on this issue.

Department's Position:

We agree with the petitioners that these were ministerial errors. The omission of these variables from the adjustments to U.S. price was not a methodological decision, but rather errors in copying. For this amended final determination, we have therefore recalculated net U.S. price by deducting these variables from the gross price. See Ministerial Errors Memorandum at 4.

Amended Final Determination

In accordance with 19 CFR 351.224(e), we are amending the final determination of the antidumping duty investigation of MPF from the PRC to correct these ministerial errors. The revised final weighted-average dumping margins are as follows:

Exporter/manufacturer | Original weighted-average margin (Percent) | Revised weighted-average margin (Percent)
Jinan Meide Casting Co., Ltd | 11.35 | 11.31
Beijing Sai Lin Ke Hardware Co. Ltd. | 14.32 | 15.92
Langfang Pannext Pipe Fitting Co., Ltd. | 7.35 | 7.35
Chengde Malleable Iron General Factory | 10.96 | 11.18
SCE Co., Ltd. | 10.96 | 11.18
PRC-Wide | 111.36 | 111.36

Continuation of Suspension of Liquidation

In accordance with section 735(c)(1)(B)(ii) of the Act, we are directing the Bureau of Customs and Border Protection (CBP) to continue to suspend liquidation of all imports of MPF from the PRC. CBP shall require a cash deposit or the posting of a bond equal to the weighted-average amount by which the normal value exceeds the export price, as indicated in the chart above. These suspension of liquidation instructions will remain in effect until further notice.

ITC Notification

In accordance with section 735(d) of the Tariff Act, we have notified the International Trade Commission of our amended final determination.This determination is issued and published in accordance with sections 735(d), 735(e) and 777(i)(1) of the Act.

Dated: November 17, 2003.
James J. Jochum,
Assistant Secretary for Import Administration.

[FR Doc. 03-29306 Filed 11-21-03; 8:45 am]

BILLING CODE 3510-DS-S